DEPARTMENT OF STATE

[Public Notice 9720]

60-Day Notice of Proposed Information Collection: Request for Advisory Opinion

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public until November 15, 2016.

ADDRESSES: You may submit comments by any of the following methods:

• Internet: Persons with access to the Internet may comment on this notice by going to www.Regulations.gov. You can search for the document by entering “Docket Number: DOS-2016-0062” in the Search field. Then click the “Comment Now” button and complete the comment form.

• Email: DDTCPublicComments@state.gov, ATTN: Advisory Opinion Form.

• Regular Mail: Send written comments to: Directorate of Defense Trade Controls, Department of State; 2401 E St. NW., Suite H1205, Washington, DC 20522. You must include the DS form number, information collection title, and the OMB control number in any correspondence.

FOR FURTHER INFORMATION CONTACT: Direct requests for additional information regarding the collection listed in this notice, including requests for copies of the proposed collection instrument and supporting documents, to Steve Derscheid, Directorate of Defense Trade Controls, Department of State, who may be reached at DerscheidSA@state.gov (please include subject line “ATTN: Advisory Opinion Form”).

SUPPLEMENTARY INFORMATION: • Title of Information Collection: Request for Advisory Opinion.

• OMB Control Number: 1405-0174.

• Type of Request: Revision of a Currently Approved Collection.

• Originating Office: T/PM/DDTC.

• Form Number: DS-7786.

• Respondents: Individuals and companies engaged in the business of exporting or temporarily importing defense articles or defense services.

• Estimated Number of Respondents: 250.

• Estimated Number of Responses: 250.

• Average Time Per Response: 2 hours.

• Total Estimated Burden Time: 500 hours.

• Frequency: On occasion.

• Obligation to Respond: Voluntary.

We are soliciting public comments to permit the Department to:

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Directorate of Defense Trade Controls (DDTC), located in the Political-Military Affairs Bureau of the Department of State, has the principal mission of licensing the export and temporary import of defense articles or defense services as enumerated in the United States Munitions List (USML), and to ensure that the sale, transfer, or brokering of such items are in the interest of United States national security and foreign policy.

Sections 126.9 and 129.9 of the International Traffic in Arms Regulations (ITAR, 22 CFR 120-130) may be used by entities and individuals involved in the brokering, manufacture, export, and temporary import of defense articles and defense services to request an advisory opinion as to whether DDTC would be likely to grant a license or other approval for the export of a particular defense article or defense service to a particular country; for general or regulatory guidance; or whether certain activity constitutes brokering under the meaning of the ITAR. Except for determinations made with reference to ITAR § 129.9(b), advisory opinions are not binding on the Department of State and may not be used in future matters before the Department.

DDTC has recently acquired an electronic case management system to update its business processes and how it receives and handles information from industry. This system, once deployed, will allow users to electronically submit requests for advisory opinions to DDTC; users will be able to retrieve responses using the same system. DDTC staff members have defined the data fields which are most relevant and necessary for requests for advisory opinions and developed the means to accept this information from the industry in a secure system. The revision of this information collection is meant to conform the current OMB-approved data collection to DDTC's new case management system. DDTC is therefore requesting industry comments on the new advisory opinion form, which will be mirrored in the case management system once deployed. A copy of the draft form may be requested from DDTC using the contact information in the FOR FURTHER INFORMATION CONTACT section above, and a copy of the draft form will also be placed for viewing on the DDTC Web site at pmddtc.state.gov.

Methodology: This information will be collected by electronic submission to the Directorate of Defense Trade Controls.

Dated: August 22, 2016.
Lisa Aguirre,
Managing Director, Directorate of Defense Trade Controls, Department of State.

[FR Doc. 2016-22354 Filed 9-15-16; 8:45 am]

BILLING CODE 4710-25-P